DEPARTMENT OF THE INTERIOR

Fish and Wildlife Service

Issuance of Permit for Incidental Take of a Threatened Species on Struthers Ranch Property, El Paso County, CO

AGENCY: Fish and Wildlife Service, Interior.

ACTION: Notice; issuance of permit.

SUMMARY: This document provides notice that we, the U.S. Fish and Wildlife Service, issued a permit for the incidental take of the Preble's meadow jumping mouse (Zapus hudsonius preblei), a threatened species, on the Struthers Ranch Property in El Paso County, Colorado.

ADDRESSES: Documents and other information submitted with the permit application are available for review, subject to the requirements of the Privacy Act and Freedom of Information Act, from the U.S. Fish and Wildlife Service, Colorado Field Office, P.O. Box 25486, Denver, Colorado 80225; telephone (303) 236-4773.

FOR FURTHER INFORMATION CONTACT: Adam Misztal, Fish and Wildlife Biologist, Colorado Field Office (see ADDRESSES), telephone (303) 236-4753.

SUPPLEMENTARY INFORMATION: On November 10, 2005, we published a notice in the Federal Register (70 FR 68472) announcing that we had received an application from WL Homes, LLC, doing business as John Laing Homes (Applicant), for a permit to incidentally take, under section 10(a)(1)(B) of the Endangered Species Act of 1973, as amended (16 U.S.C. 1531 et seq.) (Act), the Preble's meadow jumping mouse on the Struthers Ranch Property in El Paso County, Colorado. The permit application was made under the terms of the Struthers Ranch Habitat Conservation Plan.

On July 14, 2006, we issued a permit (TE-073390-1) to the Applicant subject to certain conditions, which we listed on the permit. We issued the permit only after we determined that: (1) The Applicant applied in good faith, (2) issuing the permit would not adversely affect the Preble's meadow jumping mouse, and (3) issuing the permit would be consistent with the purposes and policy set forth in the Act.

Authority: The action is authorized by the Endangered Species Act of 1973, as amended (16 U.S.C. 1531 et seq.).

Dated: July 25, 2006.
James J. Slack,
Deputy Regional Director, Region 6.

[FR Doc. E6-13340 Filed 8-14-06; 8:45 am]

BILLING CODE 4310-55-P